DEPARTMENT OF ENERGY

Federal Energy Regulatory Commission

[Docket No. CP11-184-000]

Millennium Pipeline Company, L.L.C.; Notice of Request Under Blanket Authorization

Take notice that on April 8, 2011, Millennium Pipeline Company, L.L.C. (Millennium), One Blue Hill Plaza, Seventh Floor, P.O. Box 1565, Pearl River, New York 10965, filed in Docket No. CP11-184-000, an application pursuant to sections 157.205 and 157.208 of the Commission's Regulations under the Natural Gas Act (NGA) as amended, to construct, own, and operate the Corning Flow Reversal Project at Millennium's Corning compressor station in Steuben County, New York, under Millennium's blanket certificate issued in Docket No. CP98-155-000,¹ all as more fully set forth in the application which is on file with the Commission and open to the public for inspection.

¹ 100 FERC ¶ 62,172 (1982).

Millennium proposes to modify facilities interconnecting Millennium's system with the system of Empire Pipeline, Inc. (Empire) by replacing two existing valves and adding six new valves and piping at Millennium's Corning compressor station in Steuben County. Millennium also proposes to increase the maximum allowable operating pressure (MAOP) of the Corning compressor station discharge piping from 1200 psig to 1350 psig. Millennium states that the increased MAOP is necessary to permit it to occasionally reverse the flow of natural gas on its system to transport natural gas from either its 30-inch diameter mainline system or its A5-West pipeline via the Corning compressor station onto the facilities of Empire, which operate at an MAOP of 1300 psig. Millennium further states that the activity associated with the Corning Flow Reversal Project will not increase Millennium's mainline capacity. Finally, Millennium estimates that the proposed modifications would cost $3,400,000 to construct.

Any questions concerning this application may be directed to Gary A. Kruse, Vice President-General Counsel and Secretary, Millennium Pipeline Company, L.L.C., One Blue Hill Plaza, Seventh Floor, P.O. Box 1565, Pearl River, New York 10965, telephone (845) 620-1300, facsimile (845) 620-1320, E-mail: kruse@millenniumpipeline.com or to Thomas E. Holmberg, Baker Botts L.L.P., 1299 Pennsylvania Avenue, NW., Washington, DC 20004, telephone (202) 639-7700, facsimile (202) 585-1016, or via E-mail: thomas.holmberg@bakerbotts.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Dated: April 14, 2011.
Kimberly D. Bose,
Secretary.

[FR Doc. 2011-9560 Filed 4-19-11; 8:45 am]

BILLING CODE 6717-01-P